DEPARTMENT OF ENERGY

Federal Energy Regulatory Commission

Combined Notice of Filings #1

Take notice that the Commission received the following electric rate filings:

Docket Numbers: ER11-3084-004; ER11-2954-003; ER10-1277-003; ER10-1186-003; ER11-3097-004; ER10-1211-003; ER10-1212-003; ER10-1188-003; ER11-4626-002; ER10-1329-004; ER10-1187-002.

Applicants: The Detroit Edison Company, DTE Calvert City, LLC, DTE East China, LLC, DTE Energy Supply, Inc., DTE Energy Trading, Inc., DTE Pontiac North, LLC, DTE River Rouge No. 1, L.L.C., DTE Stoneman, LLC, Mt. Poso Cogeneration Company, LLC, St. Paul Cogeneration, LLC, Woodland Biomass Power Ltd.

Description: Supplement to notice of Change in Status of The Detroit Edison Company, et al.

Filed Date: 11/19/12.

Accession Number: 20121119-5062.

Comments Due: 5 p.m. ET 6/21/13.

Docket Numbers: ER13-1475-001.

Applicants: Massachusetts Electric Company.

Description: Amendment to Correct Filing of Interconnection Agreement with Highland Power to be effective 8/6/2013.

Filed Date: 6/6/13.

Accession Number: 20130606-5091.

Comments Due: 5 p.m. ET 6/27/13.

Docket Numbers: ER13-1641-000.

Applicants: Chestnut Flats Lessee, LLC.

Description: Chestnut Flats Lessee Baseline MBR Application Filing to be effective 7/8/2013.

Filed Date: 6/6/13.

Accession Number: 20130606-5097.

Comments Due: 5 p.m. ET 6/27/13.

Docket Numbers: ER13-1642-000.

Applicants: PJM Interconnection, L.L.C.

Description: Notice of Cancellation of SA No. 3272 in Dkt No. ER12-1473-000—Queue W2-026 to be effective 5/17/2013.

Filed Date: 6/7/13.

Accession Number: 20130607-5018.

Comments Due: 5 p.m. ET 6/28/13.

Docket Numbers: ER13-1643-000.

Applicants: PJM Interconnection, L.L.C.

Description: Notice of cancellation of Interconnection Service Agreement of PJM Interconnection, L.L.C.

Filed Date: 6/7/13.

Accession Number: 20130607-5041.

Comments Due: 5 p.m. ET 6/28/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 7, 2013.
Nathaniel J. Davis, Sr.,
Deputy Secretary.

[FR Doc. 2013-14596 Filed 6-18-13; 8:45 am]

BILLING CODE 6717-01-P